NUCLEAR REGULATORY COMMISSION

[NRC-2012-0153]

Governors' Designees Receiving Advance Notification of Transportation of Certain Shipments of Nuclear Waste and Spent Fuel

On January 6, 1982 (47 FR 596 and 47 FR 600), the U.S. Nuclear Regulatory Commission (NRC) published in the Federal Register final amendments to Title 10 of the Code of Federal Regulations (10 CFR) parts 71 and 73 (effective July 6, 1982), that require advance notification to Governors or their designees by NRC licensees prior to transportation of certain shipments of nuclear waste and spent fuel. The advance notification covered in Part 73 is for spent nuclear reactor fuel shipments and the notification for Part 71 is for large quantity shipments of radioactive waste (and of spent nuclear reactor fuel not covered under the final amendment to 10 CFR part 73).

The following list updates the names, addresses, and telephone numbers of those individuals in each State who are responsible for receiving information on these shipments. The list is published annually in the Federal Register to reflect any changes in information. Current State contact information can also be accessed throughout the year at http://nrc-stp.ornl.gov/special/designee.pdf.

Questions regarding this matter should be directed to Stephen N. Salomon, Division of Intergovernmental Liaison and Rulemaking, Office of Federal and State Materials and Environmental Management Programs, U.S. Nuclear Regulatory Commission, Washington, DC 20555, by email at Stephen.Salomon@nrc.gov or by telephone at 301-415-2368.

Dated at Rockville, Maryland, this 22nd day of June 2012.
For the U.S. Nuclear Regulatory Commission.
Josephine M. Piccone,
Director, Division of Intergovernmental Liaison and Rulemaking, Office of Federal and State Materials and Environmental Management Programs.

Individuals to Receive Advance Notification of Nuclear Waste Shipments
State | Part 71 | Part 73
ALABAMA | Colonel Hugh McCall, Director, Alabama Department of Public Safety, P.O. Box 1511, Montgomery, AL 36102-1511, (334) 242-4394, 24 hours: (334) 242-4128, Fax: (334) 242-0512 | SAME.
ALASKA | Marlena Brewer, Department of Environmental Conservation, State of Alaska, 555 Cordova Street, Anchorage, AK 99501, (907) 269-1099, 24 hours: (907) 457-1421, Fax: (907) 269-7600 | SAME.
ARIZONA | Aubrey V. Godwin, Director, Arizona Radiation Regulatory Agency, 4814 South 40th Street, Phoenix, AZ 85040, (602) 255-4845, ext. 222, Cell: (408) 861-9609, 24 hours: (602) 223-2212, Fax: (602) 437-0705 | SAME.
ARKANSAS | Bernard Bevill, Radiation Control Section, Arkansas Department of Health, 4815 West Markham Street, Mail Slot # 30, Little Rock, AR 72205-3867, (501) 661-2301, 24 hours: (501) 661-2136, Fax: (501) 661-2236 | SAME.
CALIFORNIA | Captain Steve Dowling, California Highway Patrol, Commercial Vehicle Section, 601 North 7th Street, Sacramento, CA 95811, (916) 843-3400, 24 hours: (916) 843-4199, Fax: (916) 322-3154 | SAME.
COLORADO | Captain Matthew Packard, Colorado State Patrol, Hazardous Materials Unit, Troop 8-C, 15065 South Golden Road, Golden CO 80401, (303) 273-1910, Cell: (303) 524-5618, 24 hours: (303) 329-4501, Fax: (303) 273-1911 | SAME.
CONNECTICUT | Edward L. Wilds, Jr., Ph.D., Director, Radiation Division, Department of Energy and Environmental Protection, 79 Elm Street, Hartford, CT 06106-5127, (860) 424-3029, Cell: (860) 490-3211, 24 hours: (860) 424-3333, Fax: (860) 424-4065 | SAME.
DELAWARE | Lewis D. Schiliro, Secretary, Department of Safety & Homeland Security, P.O. Box 818, Dover, DE 19903-0818, (302) 744-2665, 24 hours: (302) 698-7744, Fax: (302) 739-4874 | SAME.
FLORIDA | John A. Williamson, Environmental Administrator, Bureau of Radiation Control, Environmental Radiation Program, Department of Health, P.O. Box 680069, Orlando, FL 32868-0069, (407) 297-2096 x212, Cell: (850) 528-4151, 24 hours: (407) 297-2095, Fax: (407) 297-2085 | SAME.
GEORGIA | Captain Bruce Bugg, Region 3 Commander, Georgia Department of Public Safety, Motor Carrier Compliance Division, 320 Chester Avenue, Atlanta, GA 30316, (404) 463-3899, 24 hours: (404) 463-3800, Fax: (770) 357-8867 | SAME.
| Alternate: Sergeant First Class Brent Moore, 24 hour: (404) 357-8880, Fax: (404) 624-7295
HAWAII | Gary Gil, Deputy Director for Environmental Health, State of Hawaii, Department of Health, 1250 Punchbowl Street, Honolulu, HI 96813, (808) 586-4424, 24 hours: (808) 366-8950, Fax: (808) 586-4368 | SAME.
| Lynn Nakosone, Division Administrator, Environmental Health Services Division, State of Hawaii, Department of Health, 591 Ala Moana Boulevard, #125, Honolulu, HI 96813, (808) 586-4576, 24 hours: (808) 348-6418, Fax: (808) 586-1522 | SAME.
IDAHO | Captain William L. (Bill) Reese, Idaho State Police, Commercial Vehicle Safety, 700 South Stratford Drive, Meridian, ID 83642, (208) 884-7220, 24 hours: (208) 846-7550, Fax: (208) 884-7192 | SAME.
ILLINOIS | Joseph G. Klinger, Assistant Director, Illinois Emergency Management Agency, Division of Nuclear Safety, 2200 S. Dirksen Parkway, Springfield, IL 62703, (217) 785-9868, Mobile: (217) 720-4634, 24 hours: (217) 782-7860, Fax: (217) 558-7398 | SAME.
INDIANA | Major Jeffrey L. Walker, Commander, Commercial Vehicle Enforcement Division, Indiana State Police, 5252 Decatur Boulevard, Indianapolis, IN 46241, (317) 615-7431, Mobile: (317) 432-4929, 24 hours: (317) 232-8248, Fax: (317) 821-2350 or 821-2353 | SAME.
IOWA | Mark Shouten, Administrator, Iowa Homeland Security and Emergency Management Division, 7105 NW 70th Avenue, Camp Dodge, Building W-4, Johnston, IA 50131-1824, (515) 725-3231, Mobile: (515) 473-8944, 24 hours: (515) 725-3231, Fax: (515) 725-3260 | SAME.
KANSAS | Jennifer Clark, Technological Hazards Section Chief, Department of the Adjutant General, Division of Emergency Management, 2800 SW Topeka Boulevard, Topeka, KS 66611-1287, (785) 274-1394, Mobile: (785) 207-1540, 24 hours: (785) 296-3176, Fax: (785) 274-1426 | SAME.
KENTUCKY | Matthew W. McKinley, Administrator, Radiation Control Program, Cabinet for Health and Family Services, 275 East Main Street, Mail Stop HS-1C-A, Frankfort, KY 40621, (502) 564-3700, ext 3701, 24 hours: (502) 229-6254, Fax: (502) 564-1492 | SAME.
LOUISIANA | Captain Allen T. Moss, Louisiana State Police, 7919 Independence Boulevard, P.O. Box 66168, #A-26, Baton Rouge, LA 70896-6614, (225) 925-6113, ext. 241, Cell: (225) 485-9240, 24 hours: (877) 925-6595, Fax: (225) 925-3559 | SAME.
MAINE | Lieutenant Shawn Currie, State Police, Maine Dept. of Public Safety, 36 Hospital St., 20SHS, Augusta, ME 04333-0020, (207) 624-8932 or (207) 624-8939, Mobile: (207) 441-6212, 24 hours: (207) 624-7076, Fax: (207) 287-5247 | SAME.
MARYLAND | Major A. J. McAndrew, Field Operations Bureau, Special Operations and Transportation Safety Command, Maryland State Police, 901 Elkridge Landing Road, Suite 300, Linthicum Heights, MD 21090, (410) 694-6100, Cell: (301) 573-3915, 24 hours: (410) 653-4200, Fax: (410) 694-6135 | SAME.
MASSACHUSETTS | Robert L. Gallaghar, Deputy Director, Radiation Control Program, Massachusetts Department of Public Health, Shraffts Center, Suite 1M2A, 529 Main Street, Charlestown, MA 02129, (617) 242-3035 x2001, 24 hours: (617) 242-3453, Fax: (617) 242-3457 | SAME.
MICHIGAN | Captain W. Thomas Sands, Michigan State Police, Emergency Management & Homeland, Security Division, 4000 Collins Rd., Lansing, MI 48910, (517) 333-5042, 24 hours: (517) 241-8000, Fax: (517) 333-4987 | SAME.
MINNESOTA | Kevin C. Leuer, Director, Preparedness Branch, Minnesota Division of Homeland Security & Emergency Management, 444 Cedar Street, Suite 223, St. Paul, MN 55101-6223, (651) 201-7406, 24 hours: 1-800-422-0798, Fax: (651) 296-0459 | SAME.
MISSISSIPPI | Brian E. Maske, HAZMAT/WIPP, Program Manager, Planner—Districts 2 & 4, LEPC Coordinator, Mississippi Emergency Management Agency, Office of Preparedness-Plans Bureau, P.O. Box 5644, #1 MEMA Drive 39208, Pearl, MS 39288, (601) 933-6369, 24 hours: (601) 933-6362, Fax: (601) 933-6815 | SAME.
MISSOURI | Paul D. Parmenter, Director, Emergency Management Agency, P.O. Box 116, 2302 Militia Drive, Jefferson City, MO 65102, (573) 526-9100, 24 hours: (573) 751-2748, Fax: (573) 634-7966 | SAME.
MONTANA | Ed Tinsley, Administrator, Homeland Security Advisor, Montana Disaster & Emergency Services, 1956 MT Majo Street, P.O. Box 4789, Fort Harrison, MT 59636-4789, (406) 841-3911, Mobile: (406) 461-1674, 24 hours: (406) 841-3911, Fax: (406) 841-3965 | SAME.
NEBRASKA | Sergeant Glenn Elwell, Nebraska State Patrol/NIAC, Nebraska Information Analysis Center, 3800 NW 12th Street, Lincoln, NE 68521, (402) 479-4076, Cell: (402) 540-0036, NIAC: (402) 479-4049, Fax: (402) 479-4950 | SAME.
NEVADA | Karen K. Beckley, Radiation Control, Program Manager, Nevada State Health Division, 727 Fairview Drive, Suite E, Carson City, NV 89701, (775) 687-7540, Cell: (775)-720-8530, 24 hours: 1 (877) 438-7231, Fax: (775) 687-7552 | SAME.
NEW HAMPSHIRE | Sergeant Christopher Scott, Department of Safety, Division of Motor Vehicles, Intelligence Unit/Information and Analysis Unit, 33 Hazen Drive, Concord, NH 03305, (603) 223-8757, Cell: (603) 717-5546, 24 hours: (603) 271-3636 × 0, Fax: (603) 271-1760 | SAME.
NEW JERSEY | Paul Baldauf, Director, Radiation Protection Programs, Division of Environmental Safety & Health, Department of Environmental Protection, P.O. Box 420 Mailcode: 401-03E, Trenton, NJ 08625-0420, (609) 633-7964, 24 hours: 1-800-927-6337, Fax: (609) 777-1330 | SAME.
NEW MEXICO | Don Shainin, Technical Hazards Unit Leader, WIPP Program Manager, New Mexico Department of Homeland Security and Emergency Management (DHSEM), P.O. Box 27111, Santa Fe, NM 87502, (505) 476-9628, 24 hours: (505) 476-9635, Fax: (505) 476-9695 | SAME.
NEW YORK | Steven Kuhr, Director, New York State Office of Emergency Management, 1220 Washington Avenue, Building 22, Albany, NY 12226-2251, (518) 292-2301, 24 hours: (518) 292-2200, Fax: (518) 322-4978 | SAME.
NORTH CAROLINA | Sergeant Herbert Tucker, Jr., North Carolina State Highway Patrol, 1142 SE Maynard Rd., Cary, NC 27511, (919) 319-1523, Mobile: (919) 218-1271, 24 hours: (919) 319-1523, Fax: (919) 319-1534 | SAME.
NORTH DAKOTA | Terry L. O'Clair, Director, Division of Air Quality, North Dakota Department of Health, 918 East Divide Avenue—2nd Floor, Bismarck, ND 58501-1947, (701) 328-5188, 24 hours: (701) 328-9921, Fax: (701) 328-5185 | SAME.
OHIO | Michael Bear, Branch Chief, Radiological Branch, Ohio Emergency Management Agency, 2855 West Dublin Granville Road, Columbus, OH 43235-2206, (614) 799-3687, 24 hours: (614) 889-7150, Fax: (614) 799-5950 | SAME.
OKLAHOMA | Lt. Colonel Gregory Allen, Deputy Chief, Oklahoma Dept. of Public Safety, Oklahoma Highway Patrol, P.O. Box 11415, Oklahoma City, OK 73136-0145, (405) 425-7044, 24 hours: (405) 833-1428, Fax: (405) 425-2254 | SAME.
OREGON | Ken Niles, Administrator, Nuclear Safety and Energy Emergency, Preparedness Division, Oregon Department of Energy, 625 Marion Street, NE, Salem, OR 97301, (503) 378-4906; Cell: (503) 884-3905, 24 hours: (503) 884-3905, Fax: (503) 373-7806 | SAME.
PENNSYLVANIA | Timothy Baughman, Deputy Director for Operations, Pennsylvania Emergency Management Agency, 2605 Interstate Drive, Harrisburg, PA 17110, (717) 651-2001, 24 hours: (717) 651-2001, Fax: (717) 651-2021 | SAME.
RHODE ISLAND | Terrence Mercer, Associate Administrator, Motor Carriers Section, Division of Public Utilities and Carriers, 89 Jefferson Boulevard, Warwick, RI 02888, (401) 941-4500, Ext. 150, 24 hours: (401) 444-1183 (State Police) | SAME.
SOUTH CAROLINA | Susan Jenkins, Bureau of Land and Waste Management, Department of Health & Environmental Control, 2600 Bull Street, Columbia, SC 29201, (803) 896-4271, 24 hours: (803) 667-0019 or, (803) 408-2816, Fax: (803) 896-4242 | SAME.
SOUTH DAKOTA | Kristi Turman, Director, South Dakota Department of Public Safety, Office of Emergency Management, 118 W. Capitol Avenue, Pierre, SD 57501-2000, (605) 773-3231, 24 hours: (605) 773-3231, Fax: (605) 773-3580 | SAME.
TENNESSEE | Sean Kice, Radiological Protection Officer, Tennessee Emergency Management Agency, 3041 Sidco Drive, Nashville, TN 37204, (615) 253-3811, Mobile: (615) 428-8923, 24 hours: (615) 741-0001, Fax: (615) 741-8238 | SAME.
TEXAS | Richard A. Ratliff, P.E. L.M.P., Radiation Safety Licensing Branch Mgr., Division for Regulatory Services, Texas Dept. of State Health Services, Mail Code 2835, P.O. Box 149347, Austin, TX 78714-9347, (512) 834-6679, 24 hours: (512) 458-7460, Fax: (512) 834-6716 | Steven C. McCraw, Director, Texas Dept of Public Safety, Office of Homeland Security, P.O. Box 4087, Austin, TX 78773, Mobile: (512) 563-3898, 24 hours: (512) 424-2208, Fax: (512) 424-5708
UTAH | Rusty Lundberg, Director, Division of Radiation Control, Department of Environmental Quality, 195 North 1950 West, P.O. Box 144850, Salt Lake City, UT 84114-4850, (801) 536-4257, 24 hours: (801) 536-4123, Mobile: (801) 867-1769, Fax: (801) 553-4097 | SAME.
VERMONT | Keith W. Flynn, Commissioner, Department of Public Safety, Division of Vermont State Police, 103 South Main Street, Waterbury, VT 05671-2101, (802) 244-8718, Cell: (802) 371-9147, 24 hours: (802) 244-8727, Fax: (802) 241-5610 | SAME.
VIRGINIA | Gregory F. Britt, Director, Technological Hazards Division, Virginia Department of Emergency Management, 10501 Trade Court, Richmond, VA 23236, (804) 897-9950, 24 hours: (804) 674-2400 or 1-800-468-8892, Fax: (804) 897-6576 | SAME.
WASHINGTON | Mr. Kevin Zeller, Commercial Vehicle Division, Washington State Patrol, P.O. Box 42600, Olympia, WA 98504-2600, (360) 596-3816; Cell: (360) 239-0467, 24 hours: (253) 536-6210, Fax: (360) 596-3828 | SAME.
| Alternate: Captain Darrin Grondel, Commercial Vehicle Division, Washington State Patrol, P.O. Box 42600, Olympia, WA 98504-2600, (360) 596-3801 |
WEST VIRGINIA | Lieutenant Colonel J.C. Chambers, Deputy Superintendent, West Virginia State Police, 725 Jefferson Road, South Charleston, WV 25309, (304) 746-2100, 24 hours: (304) 746-2158, Fax: (304) 746-2111 | SAME.
WISCONSIN | Brian Satula, Administrator, Wisconsin Emergency Management, Department of Military Affairs, P.O. Box 7865, Madison, WI 53707-7865, (608) 242-3210, Cell: (608) 514-3461, 24 hour: 1-800-943-0003, Fax: (608) 242-3313 | SAME.
WYOMING | Captain Scot Montgomery, Support Services Officer, Commercial Carrier, Wyoming Highway Patrol, 5300 Bishop Boulevard, Cheyenne, WY 82009-3340, (307) 777-3915, Cell: (307) 630-3736, 24 hours: (307) 777-4321, Fax: (307) 777-4282 | SAME.
DISTRICT OF COLUMBIA | Frederick Goldsmith, Critical Infrastructure Mgr., Homeland Security & Emergency Management Agency, 2720 Martin Luther King, Jr. Avenue, SE, 2nd Floor, Room 247, Washington, DC 20032, (202) 481-3169, Mobile: (202) 375-9506 | SAME.
PUERTO RICO | Dr. Pedro Nieves, Chairman, Puerto Rico Quality Board, P.O. Box 11488, San Juan, PR 00917, (787) 767-8056 or (787) 767-8057, Mobile: (787) 447-9222, 24 hours: (787) 447-9222, Fax: (787) 767-4861 | SAME.
GUAM | Governor Eddie Baza Calvo, Officer of the Governor, Ricardo J. Bordullo Governor's Complex, Adelup, GU 96910, (671) 472-8931, Fax: (671) 477-4826 | SAME.
VIRGIN ISLANDS | Alicia Barnes, Commissioner, Department of Planning and Natural Resources, 45 Estate Mars Hill, Frederiksted, St. Croix, U.S. Virgin Islands 00840, (340) 713-2401, (340) 774-3320, 24 hours: (340) 774-5138, Fax: (340) 773-1716, (340) 775-5706 | SAME.
AMERICAN SAMOA | Dr. Toafa Vaiagae, Director, American Samoa Environmental Protection Agency, P.O. Box PPA, Pago Pago, AS 96799, (684) 633-2304, 24 hours: (684) 633-2304, Fax: (684) 633-5801 | SAME.
COMMONWEALTH OF THE NORTHERN MARIANA ISLANDS | Marvin K. Seman, Special Assistant for Homeland Security, Commonwealth of Northern Mariana Islands, 1326 Guguan Street, Caller Box 10007, Saipan, MP 96950, (670) 664-2216, Mobile: (670) 287-7154, Fax: (670) 664-2218 | SAME.

[FR Doc. 2012-15963 Filed 6-28-12; 8:45 am]

BILLING CODE 7590-01-P